DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, November 13, 2017, 01:00 p.m. to November 13, 2017, 04:00 p.m., National Institutes of Health, 6710 B Rockledge Drive, Bethesda, MD 20892 which was published in the Federal Register on October 03, 2017, 82 FR 46084.

The meeting date has changed from November 13, 2017, 1:00 p.m. to 4:00 p.m. to November 27, 2017, 1:00 p.m. to 4:00 p.m. The meeting is closed to the public.

Dated: October 17, 2017.
Michelle Trout,
Program Analyst, Office of Federal Advisory Committee Policy.

[FR Doc. 2017-22909 Filed 10-20-17; 8:45 am]

BILLING CODE 4140-01-P